SMALL BUSINESS ADMINISTRATION

[Disaster Declaration #15117 and #15118; Washington Disaster Number WA-00068]

Presidential Declaration of a Major Disaster for Public Assistance Only for the State of Washington; Amendment

AGENCY: U.S. Small Business Administration (SBA).

ACTION: Amendment 1.

SUMMARY: This is an amendment of the Presidential declaration of a major disaster for Public Assistance Only for the State of Washington (FEMA-4309-DR), dated 04/21/2017.

Incident: Severe Winter Storms, Flooding, Landslides, and Mudslides.

Incident Period: 01/30/2017 through 02/22/2017.

DATES: Effective 05/24/2017.

Physical Loan Application Deadline Date: 06/20/2017.

Economic Injury (EIDL) Loan Application Deadline Date: 01/22/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Washington, dated 04/21/2017, is hereby amended to include the following areas as adversely affected by the disaster.

Primary Counties: Ferry, King

All other information in the original declaration remains unchanged.

(Catalog of Federal Domestic Assistance Number 59008)

James E. Rivera
Associate Administrator for Disaster Assistance.

[FR Doc. 2017-11181 Filed 6-13-17; 8:45 am]

BILLING CODE 8025-01-P